OFFICE OF THE UNITED STATES TRADE REPRESENTATIVE

Request for Public Comments on Annual Review of Country Eligibility for Benefits Under the African Growth and Opportunity Act

AGENCY: Office of the United States Trade Representative.

ACTION: Notice and request for Comments.

SUMMARY: The African Growth and Opportunity Act Implementation Subcommittee of the Trade Policy Staff Committee (the “Subcommittee”) is requesting written public comments for the annual review of the eligibility of sub-Saharan African countries to receive the benefits of the African Growth and Opportunity Act (AGOA). The Subcommittee will consider these comments in developing recommendations on AGOA country eligibility for the President. Comments received related to the child labor criteria may also be considered by the Secretary of Labor for the preparation of the Department of Labor's report on child labor as required under section 412(c) of the Trade and Development Act of 2000. This notice identifies the eligibility criteria that must be considered under the AGOA, and lists those sub-Saharan African countries that are currently eligible for the benefits of the AGOA, and those that are currently ineligible for such benefits.

DATES: Public comments are due at the Office of the U.S. Trade Representative (USTR) by noon, Thursday, October 21, 2010.

ADDRESSES: USTR strongly prefers electronic submissions made at http://www.regulations.gov, docket number USTR-2010-0024. See “Requirements for Submission,” below. If you are unable to make a submission at http://www.regulations.gov, please contact Gloria Blue, Executive Secretary, Trade Policy Staff Committee, at (202) 395-6143 to make other arrangements.

FOR FURTHER INFORMATION CONTACT: For procedural questions, please contact Gloria Blue, Office of the U.S. Trade Representative, 600 17th Street, NW., Room F516, Washington, DC 20508, at (202) 395-3475. All other questions should be directed to Constance Hamilton, Deputy Assistant U.S. Trade Representative for Africa, Office of the U.S. Trade Representative, at (202) 395-9514.

SUPPLEMENTARY INFORMATION: The AGOA (Title I of the Trade and Development Act of 2000, Pub. L. 106-200) (19 U.S.C. 3721 et seq.), as amended, authorizes the President to designate sub-Saharan African countries as beneficiary sub-Saharan African countries eligible for duty-free treatment for certain additional products under the Generalized System of Preferences (GSP) (Title V of the Trade Act of 1974 (19 U.S.C. 2461 et seq.) (the “1974 Act”)), as well as for the preferential treatment the AGOA provides for certain textile and apparel articles.

The President may designate a country as a beneficiary sub-Saharan African country eligible for both the additional GSP benefits and the textile and apparel benefits of the AGOA for countries meeting certain statutory requirements intended to prevent unlawful transshipment of such articles, if he determines that the country meets the eligibility criteria set forth in: (1) Section 104 of the AGOA; and (2) section 502 of the 1974 Act. For 2010, 39 countries have been designated as beneficiary sub-Saharan African countries. These countries, as well as the 9 countries currently ineligible, are listed below. Section 506A of the 1974 Act provides that the President shall monitor and review annually the progress of each sub-Saharan African country in meeting the foregoing eligibility criteria in order to determine whether each beneficiary sub-Saharan African country should continue to be eligible, and whether each sub-Saharan African country that is currently not a beneficiary sub-Saharan African country, should be designated as such a country. Section 506A of the 1974 Act requires that, if the President determines that a beneficiary sub-Saharan African country is not making continual progress in meeting the eligibility requirements, he must terminate the designation of the country as a beneficiary sub-Saharan African country.

The Subcommittee is seeking public comments in connection with the annual review of the eligibility of beneficiary sub-Saharan African countries for the AGOA's benefits. The Subcommittee will consider any such comments in developing recommendations on country eligibility for the President. Comments related to the child labor criteria may also be considered by the Secretary of Labor in making the findings required under section 504 of the 1974 Act. The following sub-Saharan African countries were designated as beneficiary sub-Saharan African countries in 2010:Q P="02">

Angola,

Republic of Benin,

Republic of Botswana,

Burkina Faso,

Burundi,

Republic of Cape Verde,

Republic of Cameroon,

Republic of Chad,

Federal Islamic Republic of Comoros,

Republic of Congo,

Democratic Republic of Congo,

Republic of Djibouti,

Ethiopia,

Gabonese Republic,

The Gambia,

Republic of Ghana,

Republic of Guinea-Bissau,

Republic of Kenya,

Kingdom of Lesotho,

Republic of Liberia,

Republic of Malawi,

Republic of Mali,

Islamic Republic of Mauritania,

Republic of Mauritius,

Republic of Mozambique,

Republic of Namibia,

Federal Republic of Nigeria,

Republic of Rwanda,

Sao Tome & Principe,

Republic of Senegal,

Republic of Seychelles,

Republic of Sierra Leone,

Republic of South Africa,

Kingdom of Swaziland,

United Republic of Tanzania,

Republic of Togo,

Republic of Uganda,

Republic of Zambia.

The following sub-Saharan African countries were not designated as beneficiary sub-Saharan African countries in 2010:

Central African Republic,

Republic of Cote d'Ivoire,

Republic of Guinea,

Republic of Equatorial Guinea,

State of Eritrea,

Republic of Madagascar,

Republic of Niger,

Somalia,

Republic of Sudan,

Republic of Zimbabwe.

Requirements for Submissions: Comments must be submitted in English. To ensure the most timely and expeditious receipt and consideration of petitions, USTR has arranged to accept on-line submissions via http://www.regulations.gov. To submit petitions via this site, enter docket number USTR-2010-0024 on the home page and click “search.” The site will provide a search-results page listing all documents associated with this docket. Find a reference to this notice by selecting “notice” under “Document Type” on search-results page and click on the link entitled “Submit a Comment.” (For further information on using the http://www.regulations,gov Web site, please consult the resources provided on the Web site by clicking on “Help” at the top of the home page.)

The http://www.regulations.gov Web site provides the option of making submissions by filling in a “Type comment & Upload file” field, or by attaching a document. USTR prefers comments to be submitted as attachments. When doing this, it is sufficient to type “See attached” in the “Type comment & Upload file” field. Submissions in Microsoft Word (.doc) or Adobe Acrobat (pdf) are preferred.

Persons wishing to file comments containing business confidential information must submit both a business confidential version and a public version. Persons submitting business confidential information should write “See attached BC comments” in the “Type comment & Upload file” field. Any page containing business confidential information must be clearly marked “BUSINESS CONFIDENTIAL” on the top of that page. Persons submitting a business confidential comment must also submit a separate public version of that comment with the business confidential information deleted. Persons should write “See attached public version” in the “Type comment & Upload file” field of the public submission. Submissions should not attach separate cover letters; rather, information that might appear in the cover letter should be included in the comments you submit. Similarly, to the extent possible, please include any exhibits, annexes, or other attachments to a submission in the same file as the submission itself and not as separate files.

Public versions of all documents relating to this review will be available for review no later than two weeks after the due date at http://www.regulations.gov, docket number USTR-2010-0024.

Carmen Suro-Bredie,
Chairman, Trade Policy Staff Committee.

[FR Doc. 2010-24781 Filed 10-1-10; 8:45 am]

BILLING CODE 3190-W0-P